DEPARTMENT OF THE INTERIOR

Bureau of Indian Affairs

[234A2100DD/AAKC001030/A0A501010.999900]

Land Acquisitions; the Samish Indian Nation, Washington

AGENCY: Bureau of Indian Affairs, Interior.

ACTION: Notice.

SUMMARY: The Assistant Secretary—Indian Affairs has made a final determination to acquire 1.02 acres, more or less, into trust for the Samish Indian Nation, Washington.

DATES: This final determination was made on April 11, 2023.

FOR FURTHER INFORMATION CONTACT: Carla H. Clark, Bureau of Indian Affairs, Division of Real Estate Services, 1001 Indian School Road NW, Albuquerque, NM 87104, comments@bia.gov, (720) 484-3233.

SUPPLEMENTARY INFORMATION: On the date listed in the DATES section of this notice, the Assistant Secretary—Indian Affairs issued a decision to accept land in trust for the Samish Indian Nation, Washington under the authority of Section 5 of the Indian Reorganization Act of 1934 (48 Stat. 984). The land referred to herein, consisting of 1.02 acres, more or less, is in Skagit County, State of Washington, described as follows:

Legal Description of Property

Parcel Nos.: 33131, 33132, 33134, 33135—Administration Building Property

Parcel A

That portion of government Lot 1, Section 30, Township 35 North, Range 2 East, W.M., described as follows: Beginning at a point on the West line of said Government Lot 1, 152.50 feet South of the Northwest corner thereof; thence South 0°39′ East along said West line of Government Lot 1, 107.87 feet to the said North line of Thirtieth Street produced Westerly from “WHITNEY'S FIRST ADDITION TO THE CITY OF ANACORTES”; thence South 89°39′ East along the said North line of Thirtieth Street produced, 135.97 feet to the West line of the North and South alley in Block 10, “PLAT OF HENSLER'S FIRST ADDITION TO THE CITY OF ANACORTES, SKAGIT CO., WASH.”, produced Southerly; thence North 0°17′30″ East along said West line of alley produced, 107.86 feet; thence North 89°42′30″ West, 137.75 feet to the point of beginning.

Parcel B

The South 107.86 feet of the following described tract: That portion of Government Lot 1, Section 30, Township 35 North, Range 2 East, W.M., described as follows: Beginning at the intersection of the West line of Commercial Avenue in Anacortes, Washington, with the North line of Thirtieth Street, in “WHITNEY'S FIRST ADDITION TO THE CITY OF ANACORTES”, produced Westerly; thence North 89°42′30″ West along the North line of Thirtieth Street produced 120.0 feet to the East line of the North and South alley in Block 10 of “PLAT OF HENSLER'S FIRST ADDITION TO THE CITY OF ANACORTES, SKAGIT CO., WASH.”, produced Southerly and the true point of beginning of this description; thence North 0°17′30″ East along said East line of alley produced 215.73 feet, more or less, to the South line of Twenty-ninth Street produced, in the City of Anacortes; thence North 89°42′30″ West along the South line of said Twenty-ninth Street produced to the West line of the alley in Block 10 of “PLAT OF HENSLER'S FIRST ADDITION TO THE CITY OF ANACORTES, SKAGIT CO., WASH.”, produced Southerly; thence South 0°17′30″ West along the West line of said alley produced South, 215.73 feet, more or less, to the North line of Thirtieth Street produced; thence South 89°42′30″ East along the North line of Thirtieth Street produced to the point of beginning.

Parcel C

That portion of Government Lot 1 in Section 30, Township 35 North, Range 2 East, W.M., described as follows: Beginning at a point on the West line of Commercial Avenue, in Anacortes, Washington where it is intersected by the North line of Thirtieth Street in “WHITNEY'S FIRST ADDITION TO THE CITY OF ANACORTES”, produced Westerly; thence North 89°42′30″ West along the said North line of Thirtieth Street produced, 120 feet to the east line of the North and South alley in Block 10 of “PLAT OF HENSLER'S FIRST ADDITION TO THE CITY OF ANACORTES, SKAGIT CO., WASH.”, produced Southerly; thence North 0°17′30″ East along said East line of alley produced 107.86 feet; thence South 89°42′30″ East 120 feet to the West line of Commercial Avenue; thence South 0°17′30″ West along the West line of Commercial Avenue 107.86 feet to the point of beginning.

Parcel D

A tract of land in Government Lot 1, Section 30, Township 35 North, Range 2 East, W.M., described as follows: Beginning at a point on the West line of said Government Lot 1, 44.62 feet South of the Northwest corner thereof, said point being on the South line of Twenty-Ninth Street, as produced in the City of Anacortes; thence South 0°39′ East along the West line of said Government Lot 1, 107.88 feet; thence South 89°42′30″ East 137.75 feet to the West line of the North and South alley in Block 10 of “PLAT OF HENSLER'S FIRST ADDITION TO THE CITY OF ANACORTES, SKAGIT CO., WASH.”, produced Southerly; thence North 0°17′30″ East along said West line of alley produced, 107.87 feet to the South line of said Twenty-Ninth Street produced; thence North 89°42′30″ West along the South line of said Twenty-Ninth Street, produced, 139.53 feet to the point of beginning; EXCEPT therefrom that portion thereof described as follows: Beginning at a point on the West line of said Government Lot 1, 44.62 feet South of the Northwest corner thereof, said point being on the South line of Twenty-Ninth Street, as produced in the City of Anacortes; Thence South 0°39' East along the West line of said Government Lot 1, 107.88 feet; thence South 89°42′30″ East 69 feet to the true point of beginning; thence continue South 89°42′30″ East 68.75 feet to the West line of the North and South alley in Block 10, “PLAT OF HENSLER'S FIRST ADDITION TO THE CITY OF ANACORTES, SKAGIT CO., WASH.”, produced Southerly; thence North 0°17′30″ East along said West line of alley produced, 107.87 feet to the South line of said Twenty-Ninth Street, produced; thence North 89°42′30″ West along the South line of said Twenty-Ninth Street, 68.75 feet; thence South parallel to the West line of said Government Lot 1, to the true point of beginning.

Parcel E

A tract of land in Government Lot 1, Section 30, Township 35 North, Range 2 East, W.M., described as follows: Beginning at a point on the West line of said Government Lot 1, 44.62 feet South of the Northwest corner thereof, said point being on the South line of 29th Street, as produced in the City of Anacortes; thence South 0°39′ East along the West line of said Government Lot 1, 107.88 feet; thence South 89°42′30″ East 69 feet to the true point of beginning; thence continuing South 89°42′30″ East 68.75 feet to the West line of the North and South alley in Block 10 of “PLAT OF HENSLER'S FIRST ADDITION TO THE CITY OF ANACORTES, SKAGIT CO., WASH.”, produced Southerly; thence North 0°17′30″ East along said West line of alley produced 107.87 feet to the South line of said 29th Street, produced; thence North 89°42′30″ West along the South line of said 29th Street, 68.75 feet; thence South parallel to the West line of said Government Lot 1 to the true point of beginning.

Parcel F

A tract of land in Government Lot 1, Section 30, Township 35 North, Range 2 East, W.M., described as follows: Beginning at the intersection of the West line of Commercial Avenue in Anacortes, Washington, with the North line of 30th Street, in “WHITNEY'S FIRST ADDITION TO THE CITY OF ANACORTES”, produced Westerly; thence North 89°42′30″ West along the North line of 30th Street produced 120.0 feet to the East line of the North and South alley in Block 10 of “PLAT OF HENSLER'S FIRST ADDITION TO THE CITY OF ANACORTES, SKAGIT CO., WASH.”, produced Southerly, and the true point of beginning of this description; thence North 0°17′30″ East along said East line of alley produced 215.73 feet, more or less, to the South line of 29th Street produced, in the city of Anacortes; thence North 89°42′30″ West along the South line of said 29th Street produced to the West line of the alley in Block 10 of “PLAT OF HENSLER'S FIRST ADDITION TO THE CITY OF ANACORTES, SKAGIT CO., WASH.”, produced Southerly; thence South 0°17′30″ West along the West line of said alley produced South 215.73 feet, more or less, to the North line of 30th Street produced; thence South 89°42′30″ East along the North line of 30th Street produced to the true point of beginning, EXCEPT the South 107.86 feet Situate in the County of Skagit, State of Washington.

Authority

This notice is published in the exercise of authority delegated by the Secretary of the Interior to the Assistant Secretary—Indian Affairs by 209 Departmental Manual 8.1 and is published to comply with the requirements of 25 CFR 151.12 (c)(2)(ii) that notice of the decision to acquire land in trust be promptly provided in the Federal Register.

Bryan Newland,
Assistant Secretary—Indian Affairs.

[FR Doc. 2023-08002 Filed 4-14-23; 8:45 am]

BILLING CODE 4337-15-P